DEPARTMENT OF THE INTERIOR

Fish and Wildlife Service

Tidal Restoration of the Cullinan Ranch Unit of San Pablo Bay National Wildlife Refuge

AGENCY: Fish and Wildlife Service, Interior.

ACTION: Notice of intent to prepare an environmental impact statement; request for public comment.

SUMMARY: We, the U.S. Fish and Wildlife Service (Service), are preparing an environmental impact statement (EIS) for the tidal restoration of the Cullinan Ranch Unit of the San Pablo Bay National Wildlife Refuge, located in Solano County, California. This notice advises the public that we intend to gather information necessary to prepare an EIS pursuant to the National Environmental Policy Act (NEPA). We encourage the public and other agencies to participate in the planning process by sending written comments on management actions we should consider.

DATES: To ensure that we have adequate time to evaluate and incorporate suggestions and other input into the planning process, we must receive your comments on or before October 22, 2007.

ADDRESSES: Send written comments or requests to be added to the mailing list to: Christy Smith, Refuge Manager, San Pablo Bay National Wildlife Refuge, 7715 Lakeville Highway, Petaluma, CA 94954. Alternatively, fax written comments to (707) 769-8106, or send comments by e-mail to christy_smith@fws.gov.

FOR FURTHER INFORMATION CONTACT: Christy Smith, Refuge Manager, (707) 769-4200.

SUPPLEMENTARY INFORMATION:

Background

The Cullinan Ranch restoration project would restore approximately 1,500 acres (ac) of diked baylands back to historic tidal conditions by reintroducing tidal flow into the project area. Cullinan Ranch is located in an area of the Napa River Delta that was historically defined by a network of meandering sloughs and extensive estuarine tidal marshes. Reintroduction of tidal flow will restore vital salt marsh habitat for endangered species, including the salt marsh harvest mouse (Reithrodontomys raviventris) and the California clapper rail (Rallus longirostris obsoletus), as well as provide foraging and roosting habitat for fish, migratory waterfowl, and waterbirds.

In keeping with one of the purposes of the Refuge—“to conserve fish, wildlife, or plants which are listed as endangered species or threatened species”—the Cullinan Ranch restoration project would restore historic salt marsh habitat for the benefit of threatened and endangered species, as well as many other estuarine-dependent species.

We published a notice of intent to prepare an environmental assessment (EA) and hold a public meeting on July 15, 2002 (67 FR 46538). We held public meetings on August 7, 2002, and March 9, 2007. All meetings were announced in local newspapers. Four members of the public attended the first meeting and provided comments. One person attended the second meeting and provided no comments. All of the comments we received on the EA will go forward into the EIS planning process. During the EA planning process, we determined that possible impacts to traffic flows on Highway 37 required that we complete an environmental impact statement. In addition, since some of the project would take place on State lands belonging to California Department of Fish and Game (CDFG), an environmental impact report (EIR) under the California Environmental Quality Act (CEQA) will be prepared. California Department of Fish and Game is the lead State agency for this project under the CEQA.

Thus far, the Service and CDFG have identified and analyzed a total of eight alternatives based on a set of criteria including the following factors: effects to adjacent habitats, effects to the existing levees, effects on the hydrology of the existing slough channels and adjacent water bodies, costs of implementing restoration activities and long-term maintenance, and effects of project construction on existing uses on and adjacent to the Cullinan Ranch Site. Five of these alternatives were removed from further consideration because they did not meet the cost and engineering feasibility criteria as set forth by the lead agencies. Many of the alternatives considered were formulated with optional implementation features in order to minimize effects on adjacent habitats (such as the fringe marshes along Dutchman Slough and Pritchett Marsh), such as staging the Proposed Action and/or limiting the amount of tidal exchange. These features were analyzed but removed from further consideration because hydrologic modeling revealed that they would not significantly reduce adverse effects to adjacent habitats.

The lead agencies will carry forward three possible restoration alternatives to environmental analysis: the No-Action Alternative, the Preferred Restoration Alternative, and the Partial Restoration Alternative. The lead agencies will consider public input from the scoping period to determine whether any modification should be made to the alternatives or whether any additional issues should be addressed in the EIS.

Summary of Alternatives

No-Action Alternative

Under the No-Action Alternative, the lead agencies would take no action to restore tidal influence to the Site; however, the lead agency would be required to maintain the northern levee along Dutchman and South Sloughs in perpetuity. Maintenance activities would likely be increased as the levees age and erosive action increases in response to activities undertaken by the Napa Sonoma Restoration Project, a tidal restoration project conducted by the State of California adjacent to Cullinan Ranch.

Preferred Restoration Alternative

The Preferred Restoration Alternative would restore the entire 1,525-ac Cullinan Ranch Site, with implementation of the following project components:

Component 1: Construct boardwalk to provide access to existing electrical towers.

Component 2: Block drainage ditches to promote redevelopment of natural sloughs.

Component 3: Improve the CDFG Pond 1 levee and install water control structures.

Component 4: Protect Highway 37 from project induced flooding and erosion.

Component 5: Construct public access areas.

Component 6: Breach the levees along Dutchman and South Sloughs and Guadalcanal Village.

Component 7: Implement long-term monitoring.

Partial Restoration Alternative

The Partial Restoration Alternative would restore 300 ac of the Cullinan Ranch Site. The Service developed the Partial Restoration Alternative in order to limit potential impacts to the hydrology of Dutchman Slough. While it would meet the purpose and need of the project, a smaller overall area within Cullinan Ranch would be restored, and connectivity with other adjacent restoration projects would be limited.

The Partial Restoration Alternative would include implementation of the following project components:

Component 1: Block drainage ditches to promote redevelopment of the natural sloughs.

Component 2: Construct internal levee.

Component 3: Protect Highway 37 from project-induced flooding and erosion.

Component 4: Breach the levee along Dutchman Slough.

Component 5: Long-term monitoring.

Public Comment

Comments we receive will help us identify key concerns and issues to be evaluated in the EIS. Opportunities for public participation will occur throughout the process. Before including your address, phone number, e-mail address, or other personal identifying information in your comment, you should be aware that your entire comment, including your personal identifying information, may be made publicly available at any time. While you can ask us in your comment to withhold your personal identifying information from public review, we cannot guarantee that we will be able to do so.

Dated: August 30, 2007.
Kenneth McDermond,
Acting Manager, California/Nevada Operations, Sacramento, California.

[FR Doc. E7-17587 Filed 9-5-07; 8:45 am]

BILLING CODE 4310-55-P